FEDERAL EMERGENCY MANAGEMENT AGENCY

44 CFR Part 65

Changes in Flood Elevation Determinations

AGENCY: Federal Emergency Management Agency, (FEMA).

ACTION: Final rule.

SUMMARY: Modified Base (1-percent-annual-chance) Flood Elevations (BFEs) are finalized for the communities listed below. These modified elevations will be used to calculate flood insurance premium rates for new buildings and their contents.

EFFECTIVE DATES: The effective dates for these modified BFEs are indicated on the table below and revise the Flood Insurance Rate Maps (FIRMs) in effect for the listed communities prior to this date.

ADDRESSES: The modified BFEs for each community are available for inspection at the office of the Chief Executive Officer of each community. The respective addresses are listed in the table below.

FOR FURTHER INFORMATION CONTACT: Matthew B. Miller, P.E., Chief, Hazards Study Branch, Federal Insurance and Mitigation Administration, 500 C Street, SW., Washington, DC 20472, (202) 646-3461 or (E-mail) matt.miller@fema.gov.

SUPPLEMENTARY INFORMATION: FEMA makes the final determinations listed below of the final determinations of modified BFEs for each community listed. These modified elevations have been published in newspapers of local circulation and ninety (90) days have elapsed since that publication. The Acting Administrator, Federal Insurance and Mitigation Administration, has resolved any appeals resulting from this notification.

The modified BFEs are not listed for each community in this notice. However, this rule includes the address of the Chief Executive Officer of the community where the modified BFE determinations are available for inspection.

The modifications are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by other Federal, State, or regional entities.

These modified BFEs are used to meet the floodplain management requirements of the NFIP and are also used to calculate the appropriate flood insurance premium rates for new buildings built after these elevations are made final, and for the contents in these buildings.

The changes in BFEs are in accordance with 44 CFR 65.4. National Environmental Policy Act. This rule is categorically excluded from the requirements of 44 CFR part 10, Environmental Consideration. No environmental impact assessment has been prepared.

Regulatory Flexibility Act. The Acting Administrator, Federal Insurance and Mitigation Administration, certifies that this rule is exempt from the requirements of the Regulatory Flexibility Act because modified base flood elevations are required by the Flood Disaster Protection Act of 1973, 42 U.S.C. 4105, and are required to maintain community eligibility in the NFIP. No regulatory flexibility analysis has been prepared.

Regulatory Classification. This final rule is not a significant regulatory action under the criteria of section 3(f) of Executive Order 12866 of September 30, 1993, Regulatory Planning and Review, 58 FR 51735.

Executive Order 12612, Federalism. This rule involves no policies that have federalism implications under Executive Order 12612, Federalism, dated October 26, 1987.

Executive Order 12778, Civil Justice Reform. This rule meets the applicable standards of section 2(b)(2) of Executive Order 12778.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location | Dates and names of newspaper where notice was published | Chief executive officer of community | Effective date of modification | Community No.
Indiana:
Howard (FEMA Docket No. 7606 | Unincorporated Areas | July 20, 2001, July 27, 2001, Kokomo Tribune | Mr. John Harbaugh, President, Howard County Board of Commissioners, 230 North Main, Kokomo, Indiana 46901 | June 27, 2001 | 180414
Hendricks (FEMA Docket No. 7604) | Town of Plainfield | June 7, 2001, June 14, 2001, Hendricks County Flyer | Mr. Richard A. Carlucci, Town Manager, Town of Plainfield, 206 West Main Street, Plainfield, Indiana 46268-0065 | Sept. 14, 2001 | 180089
Marion (FEMA Docket No. 7604) | City of Indianapolis | June 14, 2001, June 21, 2001, Indianapolis Star | The Honorable Barthen Peterson, Mayor, City of Indianapolis, 200 East Washington Street, Suite 2501, Indianapolis, Indiana 46204 | Sept. 21, 2001 | 180159
Kansas:
Johnson (FEMA Docket No. 7604) | City of Lenexa | June 19, 2001, June 26, 2001, Legal Record | The Honorable Joan Bouman, Mayor, City of Lenexa, 12350 W. 87th Street Parkway, Lenexa, Kansas 66215 | May 31, 2001 | 200168
Johnson (FEMA Docket No. 7604) | City of Shawnee | June 21, 2001, June 28, 2001, Journal Herald | The Honorable Jim Allen, Mayor, City of Shawnee, 11110 Johnson Drive, Shawnee, Kansas 66203 | May 31, 2001 | 200177
Nebraska: Lancaster (FEMA Docket No. 7606) | City of Lincoln | April 19, 2001, April 26, 2001 Lincoln Journal Star | The Honorable Don Wesely, Mayor, City of Lincoln, 555 South 10th Street, Room 208, Lincoln, Nebraska 68508 | March 13, 2001 | 315273
Ohio: Summit (FEMA Docket No. 7606) | City of Twinsburg | August 9, 2001, August 16, 2001, Twinsburg Bulletin | The Honorable K. A. Procop, Mayor, City of Twinsburg, 10075 Ravenna Road, Twinsburg, Ohio 44087 | November 15, 2001 | 390534
Oklahoma: Jefferson (FEMA Docket No. 7606) | City of Waurika | July 5, 2001, July 12, 2001, Waurika News-Democrat | The Honorable Biff Eck, Mayor, City of Waurika, 122 South Main, Waurika, Oklahoma 73573 | October 11, 2001 | 400076
Texas:
Hidalgo (FEMA Docket No. 7604) | City of Edinburg | May 24, 2001, May 31, 2001, Edinburg Daily Review | The Honorable Joe Ochoa, Mayor, City of Edinburg, P.O. Box 1079, Edinburg, Texas 78540 | May 14, 2001 | 480338
Hidalgo (FEMA Docket No. 7604) | Unincorporated Areas | May 24, 2001, May 31, 2001, Monitor | The Honorable Jose E. Pulido, Hidalgo County Judge, P.O. Box 1356, Edinburg, Texas 78540 | May 17, 2001 | 480334
Denton (FEMA Docket No. 7606) | Town of Little Elm | July 12, 2001, July 19, 2001, Denton Record-Chronicle | The Honorable Jim Pelley, Mayor, Town of Little Elm, P.O. Box 129, Little Elm, Texas 75068 | October 18, 2001 | 481152

(Catalog of Federal Domestic Assistance No. 83.100, “Flood Insurance”)

Dated: January 8, 2002.
Robert F. Shea,
Acting Administrator, Federal Insurance and Mitigation Administration.

[FR Doc. 02-802 Filed 1-11-02; 8:45 am]

BILLING CODE 6718-04-P